DEPARTMENT OF ENERGY

Federal Energy Regulatory Commission

Combined Notice of Filings #1

Take notice that the Commission received the following electric rate filings:

Docket Numbers: ER16-323-009.

Applicants: Ohio Valley Electric Corporation.

Description: Supplement to December 18, 2020 Triennial Market Power Analysis for Central Region of Ohio Valley Electric Corporation.

Filed Date: 1/18/22.

Accession Number: 20220118-5160.

Comment Date: 5 p.m. ET 4/14/22.

Docket Numbers: ER22-1434-000.

Applicants: LSC Communications US, LLC.

Description: Tariff Amendment: LSCC MBR Tariff Cancellation to be effective 3/31/2022.

Filed Date: 3/24/22.

Accession Number: 20220324-5109.

Comment Date: 5 p.m. ET 4/14/22.

Docket Numbers: ER22-1435-000.

Applicants: PJM Interconnection, L.L.C.

Description: § 205(d) Rate Filing: Interim ISA, SA No. 6378; Queue Nos. AE2-071/AF1-203 to be effective 2/22/2022.

Filed Date: 3/24/22.

Accession Number: 20220324-5115.

Comment Date: 5 p.m. ET 4/14/22.

Docket Numbers: ER22-1436-000.

Applicants: Tri-State Generation and Transmission Association, Inc.

Description: § 205(d) Rate Filing: Initial Filing of Pre-Existing Service Agreement FERC No. 905 to be effective 2/25/2020.

Filed Date: 3/24/22.

Accession Number: 20220324-5141.

Comment Date: 5 p.m. ET 4/14/22.

Docket Numbers: ER22-1437-000.

Applicants: Public Service Company of Colorado.

Description: § 205(d) Rate Filing: 2022-03-24 PSC-Grid United T-T Intercon FASA-(T-2021-11)-699-0.0.0 to be effective 3/25/2022.

Filed Date: 3/24/22.

Accession Number: 20220324-5144.

Comment Date: 5 p.m. ET 4/14/22.

Docket Numbers: ER22-1438-000.

Applicants: California Independent System Operator Corporation.

Description: § 205(d) Rate Filing: 2022-03-24 Short Start Long Start to be effective 6/1/2022.

Filed Date: /24/22.

Accession Number: 20220324-5153.

Comment Date: 5 p.m. ET 4/14/22.

Docket Numbers: ER22-1439-000.

Applicants: EdSan 1B Group 1 Edwards, LLC.

Description: Baseline eTariff Filing: Market-Based Rate Application to be effective 5/24/2022.

Filed Date: 3/24/22.

Accession Number: 20220324-5170.

Comment Date: 5 p.m. ET 4/14/22.

Docket Numbers: ER22-1440-000.

Applicants: EdSan 1B Group 1 Sanborn, LLC.

Description: Baseline eTariff Filing: Market-Based Rate Application to be effective 5/24/2022.

Filed Date: 3/24/22.

Accession Number: 20220324-5171.

Comment Date: 5 p.m. ET 4/14/22.

Docket Numbers: ER22-1441-000.

Applicants: EdSan 1B Group 2, LLC.

Description: Baseline eTariff Filing: Market-Based Rate Application to be effective 5/24/2022.

Filed Date: 3/24/22.

Accession Number: 20220324-5176.

Comment Date: 5 p.m. ET 4/14/22.

Docket Numbers: ER22-1442-000.

Applicants: EdSan 1B Group 3, LLC.

Description: Baseline eTariff Filing: Market-Based Rate Application to be effective 5/24/2022.

Filed Date: 3/24/22.

Accession Number: 20220324-5181.

Comment Date: 5 p.m. ET 4/14/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 24, 2022.
Debbie-Anne A. Reese,
Deputy Secretary.

[FR Doc. 2022-06693 Filed 3-29-22; 8:45 am]

BILLING CODE 6717-01-P